DEPARTMENT OF ENERGY

Federal Energy Regulatory Commission

[Docket No. AD16-2-000]

Review of Cost Submittals by Other Federal Agencies for Administering Part I of the Federal Power Act; Notice Requesting Questions and Comments on Fiscal Year 2016 Other Federal Agency Cost Submissions

In its Order on Rehearing Consolidating Administrative Annual Charges Bill Appeals and Modifying Annual Charges Billing Procedures, 109 FERC ¶ 61,040 (2004) (October 8 Order) the Commission set forth an annual process for Other Federal Agencies (OFAs) to submit their costs related to Administering Part I of the Federal Power Act. Pursuant to the established process, the Director of the Financial Management Division, Office of the Executive Director, on October 13, 2015, issued a letter requesting the OFAs to submit their costs by December 31, 2015 using the OFA Cost Submission Form.

Upon receipt of the agency submissions, the Commission posted the information in eLibrary, and issued, on March 17, 2016, a notice announcing the date for a technical conference to review the submitted costs. On April 7, 2016, the Commission held the technical conference. Technical conference transcripts, submitted cost forms, and detailed supporting documents are all available for review under Docket No. AD16-2. These documents are accessible on-line at http://www.ferc.gov, using the “eLibrary” link and are available for review in the Commission's Public Reference Room in Washington, DC.

Interested parties may file specific questions and comments on the FY 2015 OFA cost submissions with the Commission under Docket No. AD16-2, no later than May 13, 2016. Once filed, the Commission will forward the questions and comments to the OFAs for response.

Anyone with questions pertaining to the technical conference or this notice should contact Norman Richardson at (202) 502-6219 (via email at norman.richardson@ferc.gov) or Raven A. Rodriguez at (202) 502-6276 (via email at raven.rodriguez@ferc.gov).

Dated: April 29, 2016.
Kimberly D. Bose,
Secretary.

[FR Doc. 2016-10672 Filed 5-5-16; 8:45 am]

BILLING CODE 6717-01-P